DEPARTMENT OF LABOR

Employment and Training Administration

[TA-W-72,689]

Freescale Semiconductor, Inc., Hardware/Software Design and Manufacturing A Including On-Site Leased Workers From TAC Worldwide, GDA Technologies, Inc., Manpower, Ion Design, Design Solutions, Inc., Veriseo, SiliconElite and MicroLogic, Inc., Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on May 7, 2010, applicable to workers of Freescale Semiconductor, Inc., Hardware/Software Design and Manufacturing A, Austin, Texas. The notice was published in the Federal Register on May 28, 2010 (75 FR 30070).

At the request of the State Agency, the Department reviewed the certification for workers of the subject firm. The workers are engaged in employment related to the production of semiconductors.

The company reports that workers leased from TAC Worldwide, GDA Technologies, Inc., Manpower, Ion Design, Design Solutions, Inc., Veriseo, SilconElite and MicroLogic, Inc. were employed on-site at the Austin, Texas, location of Freescale Semiconductor, Inc., Hardware/Software Design and Manufacturing A.

The Department has determined that these workers were sufficiently under the control of the subject firm to be considered leased workers.

Based on these findings, the Department is amending this certification to include workers leased from TAC Worldwide, GDA Technologies, Inc., Manpower, Ion Design, Design Solutions, Inc., Veriseo, SiliconElite and MicroLogic, Inc. working on-site at the Austin, Texas, location of Freescale Semiconductor, Inc., Hardware/Software Design and Manufacturing A.

The amended notice applicable to TA-W-72,689 is hereby issued as follows:

All workers of Freescale Semiconductor, Inc., Hardware/Software Design and Manufacturing A, including on-site leased workers from TAC Worldwide, GDA Technologies, Inc., Manpower, Ion Design, Design Solutions, Inc., Veriseo, SiliconElite and MicroLogic, Inc., Austin, Texas, who became totally or partially separated from employment on or after October 19, 2008, through May 7, 2012, and all workers in the group threatened with total or partial separation from employment on the date of certification through two years from the date of certification, are eligible to apply for adjustment assistance under Chapter 2 of Title II of the Trade Act of 1974, as amended.

Signed at Washington, DC, this 18th day of June 2010.
Del Min Amy Chen,
Certifying Officer, Division of Trade Adjustment Assistance.

[FR Doc. 2010-16021 Filed 6-30-10; 8:45 am]

BILLING CODE 4510-FN-P